DEPARTMENT OF ENERGY

Notice of Orders Issued Under Section 3 of the Natural Gas Act During July 2019

| FE Docket Nos.
CONOCOPHILLIPS COMPANY | 19-68-NG
SOUTHERN CALIFORNIA GAS COMPANY | 19-69-NG
TUSCAROWA TRADING, LLC | 19-72-NG
SEMPRA LNG INTERNATIONAL, LLC | 19-65-NG
TRAILSTONE ENERGY MARKETING, LLC | 19-64-NG; 19-52-NG; 17-50-NG
GAZ METRO GNL, S.E.C. | 19-75-LNG
OXY ENERGY CANADA, INC | 19-76-NG
SEQUENT ENERGY MANAGEMENT, L.P | 19-78-NG; 18-34-NG
GULF LNG LIQUEFACTION COMPANY, LLC | 12-101-LNG
PACIFIC SUMMIT ENERGY LLC | 19-79-NG
CITIGROUP ENERGY INC | 19-84-LNG
CASTLETON COMMODITIES CANADA LP | 19-81-NG
AVISTA CORPORATION | 19-74-NG
CERTARUS LTD | 19-77-CNG
PUBLIC UTILITY DISTRICT NO. 1 OF CLARK COUNTY | 19-85-NG
JUST ENERGY ONTARIO L.P | 19-89-NG
PORTLAND GENERAL ELECTRIC COMPANY | 19-91-NG
WISCONSIN PUBLIC SERVICE CORPORATION | 19-92-NG
CITIGROUP ENERGY CANADA, ULC | 19-14-NG
EDGEMARC ENERGY OHIO, LLC | 19-08-NG
EDGEMARC ENERGY PENNSYLVANIA, LLC | 18-91-NG

AGENCY: Office of Fossil Energy, Department of Energy.

ACTION: Notice of orders.

SUMMARY: The Office of Fossil Energy (FE) of the Department of Energy gives notice that during July 2019, it issued orders granting authority to import and export natural gas, to import and export liquefied natural gas (LNG), to import and export compressed natural gas (CNG), and vacating authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Signed in Washington, DC, on September 3, 2019.
Amy Sweeney,
Director, Office of Regulation, Analysis, and Engagement, Office of Oil and Natural Gas.

Appendix

DOE/FE Orders Granting Import/Export Authorizations
4402 | 07/03/19 | 19-68-NG | ConocoPhillips Company | Order 4402 granting blanket authority to import/export natural gas from/to Canada/Mexico.
4403 | 07/03/19 | 19-69-NG | Southern California Gas Company | Order 4403 granting blanket authority to import/export natural gas from/to Mexico.
4404 | 07/03/19 | 19-72-NG | Tuscarowa Trading, LLC | Order 4404 granting blanket authority to export natural gas to Mexico.
4405 | 07/03/19 | 19-65-NG | Sempra LNG International, LLC | Order 4405 granting blanket authority to import/export natural gas from/to Mexico.
4406; 4384-A; 4053-A | 07/03/19 | 19-64-NG; 19-52-NG; 17-50-NG | Trailstone Energy Marketing, LLC | Order 4406 granting blanket authority to import/export natural gas from/to CanadaMexico, to import LNG from Canada and Mexico by truck, to export LNG to Canada and Mexico by vessel, to import LNG from various international sources by vessel, and vacating prior authorizations, Orders 4384 and 4053.
4407 | 07/03/19 | 19-75-LNG | Gaz Metro GNL, S.E.C | Order 4407 granting blanket authority to import LNG from Canada by truck.
4408 | 07/03/19 | 19-76-NG | Oxy Energy Canada, Inc | Order 4408 granting blanket authority to import/export natural gas from/to Canada.
4409; 4169-A | 07/25/19 | 19-78-NG; 18-34-NG | Sequent Energy Management, L.P | Order 4409 granting blanket authority to import/export natural gas from/to Canada, and vacating prior authorization, Order 4169.
4411 | 07/25.19 | 19-79-NG | Pacific Summit Energy LLC | Order 4411 granting blanket authority to import/export natural gas from/to Canada/Mexico.
4412 | 07/25/19 | 19-84-LNG | Citigroup Energy Inc | Order 4412 granting blanket authority to import LNG from various international sources by vessel.
4413 | 07/25/19 | 19-81-NG | Castleton Commodities Canada LP | Order 4413 granting blanket authority to import/export natural gas from/to Canada.
4414 | 07/25/19 | 19-74-NG | Avista Corporation | Order 4414 granting blanket authority to import/export natural gas from/to Canada.
4348-A | 07/25/19 | 19-14-NG | Citigroup Energy Canada, ULC | Order 4348-A vacating authority to import/export natural gas from/to Canada.
4344-A | 07/25/19 | 19-08-NG | Edgemarc Energy Ohio, LLC | Order 4344-A vacating blanket authority to export natural gas to Canada.
4225-A | 07/25/19 | 18-91-NG | Edgemarc Energy Pennsylvania, LLC | Order 4225-A vacating blanket authority to export natural gas to Canada.
4415 | 07/26/19 | 19-77-CNG | Certarus Ltd | Order 4415 granting blanket authority to import/export CNG from/to Canada by truck.
4416 | 07/26/19 | 19-85-NG | Public Utility District No. 1 of Clark County | Order 4416 granting blanket authority to import/export natural gas from/to Canada.
4417 | 07/26/19 | 19-89-NG | Just Energy Ontario L.P | Order 4417 granting blanket authority to import/export natural gas from/to Canada.
4418 | 07/26/19 | 19-91-NG | Portland General Electric Company | Order 4418 granting blanket authority to import/export natural gas from/to Canada.
4419 | 07/26/19 | 19-92-NG | Wisconsin Public Service Corporation | Order 4419 granting blanket authority to import/export natural gas from/to Canada.
4410 | 07/31/19 | 12-101-LNG | Gulf LNG Liquefaction Company, LLC | Opinion and Order 4410 granting long-term authority to export LNG to Non-Free Trade Agreement Nations.

[FR Doc. 2019-19399 Filed 9-6-19; 8:45 am]

BILLING CODE 6450-01-P